DEPARTMENT OF THE INTERIOR

Fish and Wildlife Service

[FWS-R2-ES-2019-N037; FXES11140200000-190-FF02ENEH00]

Draft Environmental Assessment and Habitat Conservation Plan; Davis Ranch, Bexar County, Texas; Correction

AGENCY: Fish and Wildlife Service, Interior.

ACTION: Notice of availability; request for public comments; correction.

SUMMARY: On March 18, 2019, we, the U.S. Fish and Wildlife Service, announced via a Federal Register notice the availability of a draft environmental assessment (dEA) and habitat conservation plan (HCP) for development in Bexar County, Texas. Under the Endangered Species Act, the Davis McCrary Property Trust applied for an incidental take permit (ITP) that would authorize incidental take of the golden-cheeked warbler. Our Federal Register notice inadvertently did not give the correct permit number and did not specifically state how the public can submit comments. In this notice, we correct those errors.

DATES: To ensure consideration, written comments must be received or postmarked on or before May 8, 2019.

ADDRESSES: Accessing Documents:

Internet: DEA, HCP, and ITP application: You may obtain electronic copies of all three of the documents on the Service's website at http://www.fws.gov/southwest/es/AustinTexas/.

U.S. Mail: You may obtain the documents at the following addresses. In your request for documents, please reference Davis Ranch HCP.

• DEA and HCP: A limited number of CD-ROM and printed copies of the dEA and HCP are available, by request, from Mr. Adam Zerrenner, Austin Ecological Services Field Office, 10711 Burnet Road, Suite 200, Austin, TX 78758-4460; telephone 512-490-0057; fax 512-490-0974.

• ITP Application: The ITP application is available by mail from the Regional Director, U.S. Fish and Wildlife Service, P.O. Box 1306, Room 6034, Albuquerque, NM 87103.

In-Person: DEA and dHCP: Copies of the draft EA and HCP (but not the ITP application) are available for public inspection and review, by appointment and written request only, between the hours of 8 a.m. to 4:30 p.m. at the following locations:

• U.S. Fish and Wildlife Service, 500 Gold Avenue SW, Room 6034, Albuquerque, NM 87102.

• U.S. Fish and Wildlife Service, 10711 Burnet Road, Suite 200, Austin, TX 78758.

Submitting Comments: Regarding any of the documents available for review, you may submit written comments by one of the following methods. In your comments, please reference Davis Ranch HCP.

• Electronically: Submit electronic comments to FW2_AUES_Consult@fws.gov.

• By Hard Copy: Mr. Adam Zerrenner, Austin Ecological Services Field Office, 10711 Burnet Road, Suite 200, Austin, TX 78758-4460; telephone 512-490-0057; fax 512-490-0974.

We request that you send comments by only one of the methods described above.

FOR FURTHER INFORMATION CONTACT: Adam Zerrenner, Field Supervisor, by mail at U.S. Fish and Wildlife Service, 10711 Burnet Road, Suite 200, Austin, TX 78758; via phone at 512-490-0057; or via the Federal Relay Service at 800-877-8339.

SUPPLEMENTARY INFORMATION: In a March 18, 2019, Federal Register notice (84 FR 9806), we, the U.S. Fish and Wildlife Service (Service), made available the draft Environmental Assessment (dEA) and the Davis Ranch Habitat Conservation Plan (HCP) for development of a 724-acre property in Bexar County, Texas. The Davis McCrary Property Trust has applied to the Service for an incidental take permit (ITP) under section 10(a)(1)(B) of the Endangered Species Act of 1973, as amended (ESA; 16 U.S.C. 1531 et seq.). The requested ITP, which would be in effect for a period of 30 years, if granted, would authorize incidental take of the federally endangered golden-cheeked warbler (Setophaga (=Dendroica) chrysoparia). The proposed incidental take would result from activities associated with otherwise lawful activities, including commercial and residential development on the property as a result of clearing of vegetation, earth-moving activities, and construction of structures.

Corrections

In our March 18, 2019, notice (84 FR 9806), we did not provide the correct permit number. The correct permit number is TE33684D-0.

We also wish to clarify how the public can submit comments. Please see Submitting Comments under ADDRESSES, above.

Finally, while the original end date for the comment period was April 17, 2019, we are extending the comment period to May 8, 2019, because of the errors in our original notice.

Authority

We provide this notice under section 10(c) of the ESA and its implementing regulations (50 CFR 17.22 and 17.32) and the National Environmental Policy Act (42 U.S.C. 4321 et seq.) and its implementing regulations (40 CFR 1506.6).

Stewart Jacks,
Acting Regional Director, Southwest Region, Albuquerque, New Mexico.

[FR Doc. 2019-06906 Filed 4-8-19; 8:45 am]

BILLING CODE 4333-15-P